ENVIRONMENTAL PROTECTION AGENCY

40 CFR Part 721

[EPA-HQ-OPPT-2012-0727; FRL-9917-25]

RIN 2070-AB27

Significant New Use Rule on Certain Chemical Substances; Technical Correction

AGENCY: Environmental Protection Agency (EPA).

ACTION: Final rule; technical correction.

SUMMARY: EPA issued final significant new use rules (SNURs) in the Federal Register of September 2, 2014 for 36 chemical substances which were the subject of premanufacture notices (PMNs). For the chemical substance identified generically as diisocyanate terminated polycarbodiimide (PMN P-04-640), EPA inadvertently omitted the de minimus exemption from the worker protection requirements. Also, for the chemical substance identified generically as hexanedioic acid, polymer with .alpha.-hydro-.omega.- hydroxypoly[oxy(methyl-1,2-ethanediyl)],1,1′-methylenebis[4-isocyanatobenzene], dihydroxydialkyl ether and dialkanol ether (PMN P-11-311) a typographical error in the PMN number has been identified. The amendments in this document are being issued to correct the omission and the typographical error.

DATES: This technical correction is effective November 3, 2014.

ADDRESSES: The docket for this action, identified by docket identification (ID) number EPA-HQ-OPPT-2012-0727, is available at http://www.regulations.gov or at the Office of Pollution Prevention and Toxics Docket (OPPT Docket), Environmental Protection Agency Docket Center (EPA/DC), West William Jefferson Clinton Bldg., Rm. 3334, 1301 Constitution Ave. NW., Washington, DC. The Public Reading Room is open from 8:30 a.m. to 4:30 p.m., Monday through Friday, excluding legal holidays. The telephone number for the Public Reading Room is (202) 566-1744, and the telephone number for the OPPT Docket is (202) 566-0280. Please review the visitor instructions and additional information about the docket available at http://www.epa.gov/dockets.

FOR FURTHER INFORMATION CONTACT: For technical information contact: Jim Alwood, Chemical Control Division (7405M), Office of Pollution Prevention and Toxics, Environmental Protection Agency, 1200 Pennsylvania Ave. NW., Washington, DC 20460-0001; telephone number: (202) 564-8974; email address: alwood.jim@epa.gov.

For general information contact: The TSCA-Hotline, ABVI-Goodwill, 422 South Clinton Ave., Rochester, NY 14620; telephone number: (202) 554-1404; email address: TSCA-Hotline@epa.gov.

SUPPLEMENTARY INFORMATION:

I. Does this action apply to me?

The Agency included in the September 2, 2014 final rule a list of those who may be potentially affected by this action.

II. What does this technical correction do?

EPA issued a final rule in the Federal Register of September 2, 2014 (79 FR 51899) (FRL-9914-19) for significant new uses for 36 chemical substances that were the subject of PMN notices. EPA omitted the de minimus exemption of 1.0% from the worker protection requirements for § 721.10643. EPA also erroneously identified the chemical substance in the regulatory text for § 721.10653 as being submitted with PMN P-09-311. The correct number should be PMN P-11-311. This action corrects the omission and the typographical error.

III. Why is this correction issued as a final rule?

Section 553 of the Administrative Procedure Act (APA) (5 U.S.C. 553(b)(3)(B)) provides that, when an Agency for good cause finds that notice and public procedure are impracticable, unnecessary or contrary to the public interest, the Agency may issue a final rule without providing notice and an opportunity for public comment. EPA has determined that there is good cause for making this technical correction final without prior proposal and opportunity for comment. In Unit V. of the September 2, 2014 final rule containing EPA's response to comments, EPA stated in the response to comment 10 that it would include a de minimus exemption of 1.0% from the worker protection requirements for § 721.10643. The typographic error of P-09-311 only appears in the regulatory text for § 721.10653. In the proposed rule and the preamble to the final rule EPA properly identified the chemical substance subject to § 721.10653 as being submitted with P-11-309, thereby making clear the intention of the Agency in promulgating the rule. EPA finds that this constitutes good cause under 5 U.S.C. 553(b)(3)(B).

IV. Do any of the statutory and executive order reviews apply to this action?

No. For a detailed discussion concerning the statutory and executive order review, refer to Unit X. of the September 2, 2014 final rule.

V. Congressional Review Act

Pursuant to the Congressional Review Act (5 U.S.C. 801 et seq.), EPA will submit a report containing this rule and other required information to the U.S. Senate, the U.S. House of Representatives, and the Comptroller General of the United States prior to publication of the rule in the Federal Register. This action is not a “major rule” as defined by 5 U.S.C. 804(2).

List of Subjects in 40 CFR Part 721

Environmental protection, Chemicals, Hazardous substances, Reporting and recordkeeping requirements.

Dated: October 2, 2014.
Maria J. Doa,
Director, Chemical Control Division, Office of Pollution Prevention and Toxics.

Therefore, 40 CFR part 721 is amended as follows:

PART 721—[AMENDED]

1. The authority citation for part 721 continues to read as follows:

Authority: 15 U.S.C. 2604, 2607, and 2625(c).

2. In § 721.10643, revise paragraph (a)(2)(i) to read as follows:

§ 721.10643 Diisocyanate terminated polycarbodiimide (generic).

(a) * * *

(2) * * *

(i) Protection in the workplace. Requirements as specified in § 721.63(a)(1), (a)(3), (a)(4), (a)(6)(ii), and (b) (concentration set at 1.0 percent). When determining which persons are reasonably likely to be exposed as required for § 721.63(a)(1) and (4), engineering control measures (e.g., enclosure or confinement of the operation, general and local ventilation) or administrative control measures (e.g., workplace policies and procedures) shall be considered and implemented to prevent or reduce exposure, where feasible. A National Institute for Occupational Safety and Health (NIOSH)-certified supplied-air respirator operated in pressure demand or other positive pressure mode and equipped with a tight-fitting full facepiece with an assigned protection factor (APF) of at least 2,000 meets the minimum requirements of § 721.63(a)(4). As an alternative to the respiratory requirements listed here, a manufacturer, importer, or processor may choose to follow the new chemical exposure limit (NCEL) provisions listed in the TSCA section 5(e) consent order for this substance. The NCEL is 0.05 mg/m³. Persons whose § 721.30 requests to use the NCELs approach are approved by EPA will receive NCELs provisions comparable to those contained in the corresponding section 5(e) consent order.

* * * * *

3. In § 721.10653, revise paragraph (a)(1) to read as follows:

§ 721.10653 Hexanedioic acid, polymer with .alpha.-hydro-.omega.-hydroxypoly[oxy(methyl-1,2-ethanediyl)],1,1′-methylenebis[4-isocyanatobenzene], dihydroxydialkyl ether and dialkanol ether (generic).

(a) * * *

(1) The chemical substance identified generically as hexanedioic acid, polymer with .alpha.-hydro-.omega.-hydroxypoly[oxy(methyl-1,2-ethanediyl)],1,1′-methylenebis[4-isocyanatobenzene], dihydroxydialkyl ether and dialkanol ether (PMN P-11-311) is subject to reporting under this section for the significant new uses described in paragraph (a)(2) of this section.

* * * * *

[FR Doc. 2014-24027 Filed 10-7-14; 8:45 am]

BILLING CODE 6560-50-P